FEDERAL COMMUNICATIONS COMMISSION

Notice of Public Information Collection(s) Being Reviewed by the Federal Communications Commission for Extension Under Delegated Authority, Comments Requested

July 21, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments September 28, 2009. If you anticipate that you will be submitting comments, but find it difficult to do so within the period of time allowed by this notice, you should advise the contact listed below as soon as possible.

ADDRESSES: Direct all PRA comments to Nicholas A. Fraser, Office of Management and Budget (OMB), via fax at 202-395-5167, or via the Internet at Nicholas_A._Fraser@omb.eop.gov and to Judith-B.Herman@fcc.gov, Federal Communications Commission (FCC). To submit your comments by e-mail send them to: PRA@fcc.gov.

To view a copy of this information collection request (ICR) submitted to OMB: (1) Go to the Web page http://www.reginfo.gov/public/do/PRAMain, (2) look for the section of the Web page called “Currently Under Review”, (3) click the downward-pointing arrow in the “Select Agency” box below the “Currently Under Review” heading, (4) select “Federal Communications Commission” from the list of agencies presented in the “Select Agency” box, (5) click the “Submit” button to the right of the “Select Agency” box and (6) when the list of FCC ICRs currently under review appears, look for the title of this ICR (or its OMB Control Number, if there is one) and then click on the ICR Reference Number to view detailed information about this ICR.

FOR FURTHER INFORMATION CONTACT: For additional information, send an e-mail to Judith B. Herman at 202-418-0214.

SUPPLEMENTARY INFORMATION: OMB Control Number: 3060-0723.

Title: 47 U.S.C. Section 276, Public Disclosure of Network Information by Bell Operating Companies (BOCs).

Form No.: N/A.

Type of Review: Extension of a currently approved collection.

Respondents: Business or other for-profit.

Number of Respondents: 3 respondents; 3 responses.

Estimated Time per Response: 120 hours.

Frequency of Response: On occasion reporting requirement and third party disclosure requirement.

Obligation to Respond: Mandatory. Statutory authority for this information collection is contained in 47 U.S.C. 276 of the Telecommunications Act of 1996.

Total Annual Burden: 360 hours.

Total Annual Cost: N/A.

Privacy Act Impact Assessment: N/A.

Nature and Extent of Confidentiality: If the Commission requests respondents to submit information to the Commission or to USAC that the respondents believe is confidential, the respondents may request confidential treatment of such information pursuant to 47 CFR section 0.459 of the Commission's rules.

Needs and Uses: The Commission will submit this information collection to the Office of Management and Budget (OMB) after this 60 day comment period in order to obtain the full three year clearance from them. The Commission is requesting an extension (no change in the reporting and/or third party disclosure requirements) of this information collection. The Commission is reporting no change in their burden estimates.

Under 47 U.S.C. section 276(b)(1)(C), the Bell Operating Companies (BOCs) are required to publicly disclose changes in their networks or new network services.

The Computer III network information disclosure requirements specifically state that the disclosure would occur at two different points in time. First, disclosure would occur at eh make/buy point: when a BOC decides to make for itself, or procure from an unaffiliated entity, any product whose design affects or relies on the network interface. Second, a BOC would publicly disclose technical information about a new service 12 months before it is introduced. If the BOC could introduce the service within 12 months of the make/buy point, it would make a public disclosure at the make/buy point. In no event, however, would the public disclosure occur less than six months before the introduction of the service.

Without provision of this information, the industry would be unable to ascertain whether the BOCs designing new network services or changing network technical specifications are to the advantage of their own payphones, or might disadvantage BOC payphone competitors. The of the requirements are used to ensue that BOCs comply with their obligations under the Telecommunications Act of 1996.

OMB Control Number: 3060-0711.

Title: Sections 1.5000 through 1.5007, Implementation of Section 34(a)(1) of the Public Utility Holding Company Act of 1935, as amended by the Telecommunications Act of 1996.

Form No.: N/A.

Type of Review: Extension of a currently approved collection.

Respondents: Business or other for-profit.

Number of Respondents: 1 respondent; 1 response.

Estimated Time per Response: 10 hours.

Frequency of Response: On occasion reporting requirement and third party disclosure requirement.

Obligation to Respond: Required to obtain or retain benefits. Statutory authority for this information collection is required by section 34(a)(1) of the Public Utility Holding Company Act of 1935 (PUHCA 1935), as amended by section 103 of the Telecommunications Act of 1996, Public Law No. 104-104, 110 Stat. 56 (1996) and authorized by sections 4(i), 4(j) and 303(r) of the Communications Act of 1934, as amended.

Total Annual Burden: 10 hours.

Total Annual Cost: $3,200.

Privacy Act Impact Assessment: N/A.

Nature and Extent of Confidentiality: The Commission is not requesting that respondents submit confidential information.

Needs and Uses: The Commission will submit this information collection to the Office of Management and Budget (OMB) after this 60 day comment period in order to obtain the full three year clearance from them. The Commission is requesting an extension (no change in the reporting and/or third party disclosure requirements) of this information collection. The Commission is reporting a change in the burden estimates. The Commission has reduced the number of respondents/responses by 14; reduced the total burden hours by 140 hours; and the annual costs decreased by $44,800. This adjusted change in the estimated burden is due to fewer applicants requesting entry into the telecommunications industry.

Sections 1.5000 through 1.5007 implement Section 34(a) of the Public Utility Holding Company Act of 1935 (PUHCA 1935). The rules provide filing requirements and procedures to expedite public utility holding company entry into the telecommunications industry. To achieve this goal, the regulations require persons seeking a determination of ETC status to file in good faith for a determination by the Commission. Applicants are required to file with the Commission a brief description of their planned activities, and a sworn statement attesting to any facts presented otherwise offered to demonstrate eligibility for ETC status. Applicants are required to submit a sworn statement certifying that they comply with Part 1, Subpart P, of the Commission's regulations, 47 CFR 1.2001 et seq., regarding implementation of the Anti-Drug Abuse Act of 1988, 21 U.S.C. 862. Finally, applicants would also be required to serve copies of their application with the Securities and Exchange Commission (SEC) and affected state commissions. The applicant must notify the Commission of material change in facts within 30 days of the change in fact. See 47 CFR 1.5006. Persons wishing to be heard concerning an application for ETC status may file with the Commission within 15 days from the release date of a public notice regarding the application. Any person who files comments with the Commission must also serve copies of all comments on the applicant. See 47 CFR 1.5007.

On August 8, 2005, President Bush signed the Energy Policy Act of 2005 (EPAct 2005) into law, repealing the PUHCA 1935 and enacting the Public Utility Holding Company Act of 2005 (PUHCA 2005) in its place. See Energy Policy Act of 2005, Public Law No. 109-58, 119 Stat. 594 (2005). Congress further directed the Federal Energy Regulatory Commission (FERC) to issue final regulations and submit further recommendations to Congress four months after the date of enactment. The EPAct 2005 makes no mention of exempt telecommunications companies, nor any relevant mention of telecommunications as they relate to exempt telecommunications company status, and the PUHCA 2005, which replaces PUHCA 1935, does not address exempt telecommunications companies at all. Consequently, the Wireline Competition Bureau Staff Report prepared pursuant to the FCC's biennial regulatory review process, staff recommended that sections 1.5001 through 1.5007 of the Commission's rules be eliminated. This recommendation has not yet been effectuated, so the rules are still currently in place. Until the Commission does eliminate these rules, the Commission is requesting continued OMB approval of the information collection requirements contained in 47 CFR 1.5000 through 1.5007.

The information would be used by the Commission to determine whether persons satisfy the criteria for “exempt telecommunications company” status. Without such information, the Commission could not determine whether persons satisfy the criteria under section 34(a)(1) of the PUHCA, as amended.

OMB Control Number: 3060-0745.

Title: Implementation of the Local Exchange Carrier Tariff Streamlining Provisions of the Telecommunications Act of 1996, CC Docket No. 96-187.

Form No.: N/A.

Type of Review: Extension of a currently approved collection.

Respondents: Business or other for-profit.

Number of Respondents: 50 respondents; 1,536 responses.

Estimated Time per Response: .25-5 hours.

Frequency of Response: On occasion reporting requirement, recordkeeping requirement and third party disclosure requirement.

Obligation to Respond: Required to obtain or retain benefits. Statutory authority for this information collection is contained in 47 U.S.C. Sections 151, 154(i) and 204(a)(3) of the Communications Act of 1934, as amended.

Total Annual Burden: 4,054 hours.

Total Annual Cost: $786,250.

Privacy Act Impact Assessment: N/A.

Nature and Extent of Confidentiality: The Commission is not requesting respondents to submit confidential information with tariffs eligible for streamlined regulation. If the Commission requests respondents to submit information that the respondents believe is confidential, the respondents may request confidential treatment of such information pursuant to 47 CFR section 0.459 of the Commission's rules. In the case where such requests are made in the course of a tariff filing that is eligible for streamlined treatment, the Commission will routinely impose a standard protective order. A standard protective order to be used in the streamlined tariff proceedings is attached to the Report and Order.

Needs and Uses: The Commission will submit this information collection to the Office of Management and Budget (OMB) after this 60 day comment period in order to obtain the full three year clearance from them. The Commission is requesting an extension (no change in the reporting, recordkeeping and/or third party disclosure requirements) of this information collection. The Commission is now reporting a 26 hour increase in the total annual burden; an $11,250 increase in annual costs; and a 2,492 reduction in the number of responses.

In CC Docket No. 96-187, the Commission adopted measures to streamline tariff filing requirements for local exchange carriers (LECs) pursuant to the Telecommunications Act of 1996. In order to achieve a streamlined and deregulatory environment for LEC tariff filings, local exchange carriers are required to file tariffs electronically.

There are eight information collection requirements that contain reporting, third party disclosure and recordkeeping requirements. They are described in the Supporting Statement that will accompany the submission to OMB. They are: (1) Electronic filing requirement; (2) requirement that carriers desiring tariffs proposing rate decreases to be effective seven days file separate transmittals; (3) requirement that carriers identify transmittals filed pursuant to the streamlined provisions of the 1996 Act; (4) The requirements are described in the Supporting Statement that will accompany the submission to OMB. They are: (1) Electronic filing requirement for LECs to file tariffs seven and fifteen days notice; (2) requirement that carriers desiring tariffs proposing rate decreases to be effective seven days file separate transmittals; (3) requirement that carriers identify transmittals filed pursuant to the streamlined provisions of the 1996 Act; (4) requirement that price cap LECs file their Tariff Review Plans prior to filing their annual access tariffs; (5) filing petitions and replies electronically (reporting requirement); (6) filing petitions and replies electronically (third party disclosure requirement); (7) recordkeeping requirement (standard protective order); and (8) reporting requirement (standard protective order).

The information collected via electronic filing will facilitate access to tariff and associated documents by the public, especially by interested persons or parties who do not have ready access to the Commission's public reference center, and state and federal regulators. Electronic access to carrier tariffs should also facilitate the compilation of aggregate data for industry analysis purposes without imposing new reporting requirements on carriers. Carriers desiring tariffs proposing rate decreases to be effective in seven days must file a separate transmittal. This requirement will ensure that a tariff filing proposing a rate decrease is given the shortest notice period possible under the 1996 Act. The Commission also adopted the requirement that carriers identify transmittals filed pursuant to the streamlining provisions of the 1996 Act. All of the requirements help to ensure that local exchange carriers comply with their obligations under the Communications Act and that the Commission is able to ensure compliance within the streamlined timeframes established in the 1996 Act.

Federal Communications Commission.
Marlene H. Dortch,
Secretary.

[FR Doc. E9-17919 Filed 7-27-09; 8:45 am]

BILLING CODE 6712-01-P